DEPARTMENT OF ENERGY

Federal Energy Regulatory Commission

Combined Notice of Filings #2

Take notice that the Commission received the following electric corporate filings:

Docket Numbers: EC21-33-000.

Applicants: Altavista Solar, LLC.

Description: Application for Authorization Under Section 203 of the Federal Power Act of Altavista Solar, LLC under EC21-33.

Filed Date: 12/8/20.

Accession Number: 20201208-5199.

Comments Due: 5 p.m. ET 12/29/20.

Take notice that the Commission received the following electric rate filings:

Docket Numbers: ER15-632-010; ER15-634-010; ER14-2465-011; ER14-2466-011; ER15-1952-008; ER14-2939-008; ER15-2728-010; ER14-2140-010; ER14-2141-010.

Applicants: CID Solar, LLC, Cottonwood Solar, LLC, RE Columbia Two, LLC, RE Camelot, LLC, Pavant Solar, LLC, Imperial Valley Solar Company (IVSC) 2, LLC, Maricopa West Solar PV, LLC, Mulberry Farm, LLC, Selmer Farm, LLC.

Description: Response to November 6, 2020 Deficiency Letter of Dominion Energy Companies, et al.

Filed Date: 12/7/20.

Accession Number: 20201207-5236.

Comments Due: 5 p.m. ET 12/28/20.

Docket Numbers: ER19-1474-002; ER19-1473-002; ER20-1629-001; ER19-1179-002.

Applicants: AES Huntington Beach Energy, LLC, AES Alamitos Energy, LLC, AES ES Alamitos, LLC, AES ES Gilbert, LLC.

Description: Notice of Non-Material Change in Status of AES Huntington Beach Energy, LLC et al.

Filed Date: 12/9/20.

Accession Number: 20201209-5103.

Comments Due: 5 p.m. ET 12/30/20.

Docket Numbers: ER21-614-000.

Applicants: PJM Interconnection, L.L.C.

Description: § 205(d) Rate Filing: Original WMPA, Service Agreement No. 5855; Queue No. AF2-100 to be effective 11/10/2020.

Filed Date: 12/9/20.

Accession Number: 20201209-5133.

Comments Due: 5 p.m. ET 12/30/20.

Take notice that the Commission received the following PURPA 210(m)(3) filings:

Docket Numbers: QM21-1-000.

Applicants: East Texas Electric Cooperative, Inc., Northeast Texas Electric Cooperative Inc.

Description: Application of East Texas Electric Cooperative, Inc. and Northeast Texas Electric Cooperative, Inc. to Terminate Their Mandatory Purchase Obligation under the Public Utility Regulatory Policies Act of 1978.

Filed Date: 12/9/20.

Accession Number: 20201209-5144.

Comments Due: 5 p.m. ET 1/6/21.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2020.
Kimberly D. Bose,
Secretary.

[FR Doc. 2020-27529 Filed 12-14-20; 8:45 am]

BILLING CODE 6717-01-P